DEPARTMENT OF EDUCATION

Office of Elementary and Secondary Education; Safe and Drug-Free Schools and Communities National Programs—Federal Activities Grants Program—The Challenge Newsletter

AGENCY: Department of Education.

ACTION: Notice of final priority and selection criteria for fiscal year 2000 and subsequent years.

SUMMARY: The Assistant Secretary announces a final priority, eligible applicants, and selection criteria for fiscal year (FY) 2000 and, at the discretion of the Assistant Secretary, for subsequent years under the Safe and Drug-Free Schools and Communities National Programs—Federal Activities Grants Program. The Assistant Secretary takes this action to focus Federal financial assistance on an identified national need—the development and dissemination of a newsletter with information about effective practices to prevent drug use and violent behavior among youth. The Challenge newsletter will provide a communication link on current and future program directions, research-based activities, and other information related to effective drug and violence prevention strategies between the U.S. Department of Education and State and local educational agencies and other public and private organizations involved with prevention of youth drug use and violent behavior.

EFFECTIVE DATE: This notice takes effect on April 24, 2000.

Eligible Applicants: Eligible applicants under this competition are public and private nonprofit organizations and individuals.

FOR FURTHER INFORMATION CONTACT: Gail Beaumont, Safe and Drug-Free Schools Program, U.S. Department of Education, 400 Maryland Avenue, SW, Room 3E310, Washington, DC 20202-6123, (202) 260-3954. Fax: (202) 260-7767. Internet: gail_beaumont@ed.gov.

An individual who uses a TDD may call the Federal Information Relay Service (FIRS) at 1-800-877-8339.

Note: This notice of final priority does not solicit applications. A notice inviting applications under this competition is published elsewhere in this issue of the Federal Register.

SUPPLEMENTARY INFORMATION: This notice contains the final priority for fiscal year 2000, and related selection criteria. Under the absolute priority, the Assistant Secretary intends to award one cooperative agreement for up to 36 months; this cooperative agreement will support a means of communicating with the field on current and future program directions, research-based activities, and other information related to effective drug and violence prevention practices through The Challenge newsletter. The primary audience for The Challenge is classroom teachers.

Applicants must demonstrate extensive knowledge of elements of effective drug and violence prevention programs and current research in the area of drug and violence prevention. Funds under the Safe and Drug-Free Schools Program reach 97 percent of the nation's school districts. While most school districts have implemented drug and violence prevention activities in some form, too often these activities are narrow in scope and are not based on science. Many school districts lack data on the effects of their drug and violence prevention programs on student behavior. They need information about programs that have proven to be effective or promising that they can adopt for their students. Although research exists on drug and violence prevention strategies that have positive results, too often this research is not known to school personnel, and does not get translated into practice. The Challenge will provide classroom teachers and other professionals with information about effective or promising drug and violence prevention programs and strategies, articles by experts in the prevention field, and other timely information covering a broad range of topics that comprise the expanding knowledge base on drug and violence prevention.

With regard to content, the following information describes examples of topics and types of articles that have been featured in past issues of The Challenge:

• Information about principles of effective drug and violence prevention programs.

• Key elements or characteristics of successful drug and violence prevention programs.

• Research studies and data related to drug and violence prevention.

• Articles by recognized experts in fields related to safe and drug-free schools.

• Articles describing model programs.

• Information that describes discretionary grant activities funded under the Safe and Drug-Free Schools and Communities Program, National Programs, including resources and products resulting from the activities.

• Timely information on special topics such as emerging trends in use of specific drugs, or early warning signs of violent behavior.

• Resources and helplines for obtaining information and materials on drug and violence prevention.

While applicants are expected to address in their applications the topics and types of articles described in the above list, the list is by no means comprehensive. Applicants are encouraged to offer suggestions on ways to communicate with the field on a broad range of key issues, including information on classroom practices, assessments, and appropriate strategies.

Frequency of past publication of The Challenge has ranged from 6-10 times per year, and the number of pages has ranged from 4-26 pages per issue. The number of copies has been 50,000 per issue. These numbers are offered as guides based on past practice, and are not requirements of the current competition. Applicants are encouraged to offer suggestions regarding the length and frequency of publication, as well as number of copies per issue and dissemination plan.

The applicant funded under the absolute priority in this notice will have the responsibility to design, develop, publish, disseminate, and manage all aspects of The Challenge consistent with the specific requirements in the absolute priority below. In submitting their proposals for funding, applicants are encouraged to offer suggestions and ideas for The Challenge in addition to those specified in the absolute priority.

Public Comments

On January 25, 2000, the Assistant Secretary published a notice of proposed priority, eligible applicants, and selection criteria for this competition in the Federal Register (65 FR 3948-3950). In response to the Assistant Secretary's invitation to comment, the Department received comments from two organizations. In response to the comments received, the Assistant Secretary made two modifications—one to the supplementary information section of the notice and one to the selection criteria—as noted in the analysis of comments and changes and elsewhere in this notice.

Analysis of Comments and Changes

Highlight More Classroom Practices, Assessments, and Appropriate Strategies

Comment: One commenter suggested that, in order to benefit classroom teachers, the content of the newsletter should highlight more classroom practices, assessments, and appropriate strategies rather than the items identified in the Federal Register.

Discussion: The Department agrees that the newsletter should include information for classroom teachers such as classroom practices, assessments, and appropriate strategies, but not to the exclusion of other topics listed in supplementary information.

The supplementary information provided in the Notice of Proposed Priority includes a list of suggested, but not mandatory, topics and types of articles that have been featured in past issues of The Challenge.

Changes: The supplementary information section of this notice is amended to include a statement that applicants are encouraged to offer suggestions about communicating information about classroom practices, assessments, and appropriate strategies.

Definition of “Newsletter”, Specifications Regarding Length, Frequency of Publication

Comment: One commenter sought clarification of the meaning of the term “newsletter” in terms of length and frequency of publication envisioned for 5 The Challenge, expressing the concern that without more clarification proposals might be very different and difficult to compare.

Discussion: The dictionary definition for the term “newsletter” is “a printed sheet, pamphlet, or small newspaper containing news or information of interest chiefly to a special group.” While a specific definition of “newsletter” is not provided for this priority, the dictionary definition provides a general frame of reference. The supplementary information in the Notice of Proposed Priority states that past publication of The Challenge has ranged from 6—10 times per year, and the number of pages has ranged from 4—26 pages per issue. These numbers are offered as guides based on past practice, and are not requirements. The Department chose not to be prescriptive in terms of length and frequency of publication, opting instead to encourage applicants to offer their suggestions. Proposals will be reviewed individually on their own merits against the selection criteria.

Changes: None.

Selection Criteria—Adequacy of Resources

Comment: One commenter asked if peer reviewers should be determining whether costs are reasonable, and based on what qualifications.

Discussion: Peer reviewers for all grant competitions have as one of their tasks assessing budgets submitted by applicants and determining if costs are reasonable, based on the design, scope, and complexity of the proposed projects.

Changes: None.

Comment: One commenter suggested that the adequacy of resources such as adequate office space, computer hardware and software, database capabilities for the subscriber database, and established relationships with graphic designers, printers, and mailing houses are also important considerations. The commenter suggested also increasing the point value to ensure that offerors possess the necessary non-staff resources and capabilities.

Discussion: The Department agrees that it is important to consider resources such as those described by the commenter, but that consideration of those resources can be accomplished by adding a factor to the “Adequacy of Resources” selection criterion without increasing the overall point score for this criterion.

Change: The comment is addressed by adding the following factor under the “Adequacy of Resources” selection criterion: “The adequacy of support, including facilities, equipment, supplies, and other resources, from the applicant organization or the lead applicant organization” for 5 points. The overall point score of 10 points for the “Adequacy of Resources” selection criterion remains the same. The point score for the factor “the extent to which the costs are reasonable in relation to the objectives, design, and potential significance of the proposed project” is reduced from 10 to 5 points.

Organizational Experience as a Selection Factor

Comment: One commenter stated that organizational experience/qualifications is nowhere to be found within the proposed selection criteria, and commented that organizational experience and qualifications would be an important selection factor.

Discussion: The Department agrees that organizational experience and qualifications is an important selection factor. Qualifications and experience of key personnel and other factors for ensuring high-quality products and services from the proposed project are addressed under the selection criterion “Quality of Management Plan”.

Changes: None.

Selection Criteria—Quality of Project Evaluation

Comment: One commenter questioned why so many points (25) are allocated to the “Quality of Project Evaluation” criterion since The Challenge is not a demonstration project. The commenter stated that measuring the impact on recipients of reading an article or an entire issue will be complicated and the validity of those studies can be questionable. In addition, the commenter stated that the large number of points (25% of the total possible) seems to imply an expectation of a sophisticated evaluation plan, which can be costly. Those costs would likely reduce the number or size or both, of the issues that can be produced, which would in turn reduce the likelihood of measurable impact.

Discussion: The Department places high importance on the quality of the project evaluation, which is reflected in the relatively high point score assigned to this criterion. Evaluation is also addressed in the absolute priority, which includes the statement that applicants must propose projects that: “evaluate on an ongoing basis the impact of The Challenge on the intended audience, and use evaluation results for continuous improvement of the newsletter.” The evaluation plan and methods of evaluation will vary, depending on the objectives and design of The Challenge proposed by each applicant. The Department intends for the award recipient to solicit customer feedback, and assess customer satisfaction regarding content, design, format, frequency of publication, length, and other relevant aspects of the newsletter, and leaves it to the applicant to develop a suitable plan to collect and use the information for quality improvement.

Changes: None

Absolute Priority

Under 34 CFR 75.105(c)(3) and the Safe and Drug-Free Schools and Communities Act of 1994, the Secretary gives an absolute preference to applications that meet the following priority. The Secretary funds under this competition only applications that meet this absolute priority. Under the absolute funding priority for this competition, applicants must propose projects that:

(1) Design, develop, publish, and disseminate The Challenge, a newsletter for educators, prevention specialists, and other professionals in fields related to education and drug and violence prevention to provide information about effective practices to prevent drug use and violent behavior among youth.

(2) Manage all aspects of The Challenge, including developing contents of each issue, writing or soliciting articles for each issue, preparing artwork, handling all design and pre-production tasks, and printing and mailing.

(3) Create, maintain, and expand a subscriber data base for ED.

(4) Evaluate on an ongoing basis the impact of The Challenge on the intended audience, and use evaluation results for continuous improvement of the newsletter.

(5) Develop, create, and maintain a Web site to post each issue and receive reader comments and suggestions.

(6) Agree to have content of the newsletter reviewed and approved by the Department of Education prior to publication.

Selection Criteria

The following selection criteria will be used to evaluate applications for one cooperative agreement under this competition. The maximum score for all these criteria is 100 points. The maximum score for each criterion or factor under that criterion is indicated in parentheses.

(1) Significance. (10 points)

In determining the significance of the proposed project, the following factor is considered: The potential contribution of the proposed project to increased knowledge or understanding of educational problems, issues, or effective strategies.

(2) Quality of the project design. (30 points)

In determining the quality of the design of the proposed project, the following factors are considered:

(a) The extent to which the goals, objectives, and outcomes to be achieved by the proposed project are clearly specified and measurable. (10)

(b) The extent to which the design of the proposed project is appropriate to, and will successfully address, the needs of the target population or other identified needs. (5)

(c) The extent to which the proposed project represents an exceptional approach to the priority or priorities established for the competition. (15)

(3) Adequacy of resources. (10 points)

In determining the adequacy of resources for the proposed project, the following factors are considered:

(a) The adequacy of support, including facilities, equipment, supplies, and other resources, from the applicant organization or the lead applicant organization. (5)

(b) The extent to which the costs are reasonable in relation to the objectives, design, and potential significance of the proposed project. (5)

(4) Quality of management plan. (25 points)

In determining the quality of the management plan for the proposed project, the following factors are considered:

(a) The adequacy of the management plan to achieve the objectives of the proposed project on time and within budget, including clearly defined responsibilities, timelines, and milestones for accomplishing project tasks. (5)

(b) The adequacy of mechanisms for ensuring high-quality products and services from the proposed project, including qualifications and experience of key personnel in writing and editing newsletters for education, prevention and related fields. (10)

(c) The extent to which the time commitments of the project director and principal investigator and other key project personnel are appropriate and adequate to meet the objectives of the proposed project. (5)

(d) How the applicant will ensure that a diversity of perspectives are brought to bear in the operation of the proposed project, including those of students, faculty, parents, the business community, a variety of disciplinary and professional fields, recipients or beneficiaries of services, or others, as appropriate. (5)

(5) Quality of project evaluation. (25 points)

In determining the quality of the evaluation, the following factors are considered:

(a) The extent to which the evaluation plan provides for an ongoing evaluation of the effectiveness of The Challenge newsletter, and its impact on the intended audience. (10)

(b) The extent to which the evaluation results will be used for continuous improvement of The Challenge. (5)

(c) The extent to which the methods of evaluation are appropriate to the context within which the project operates. (5)

(d ) The extent to which the methods of evaluation will provide performance feedback and permit periodic assessment of progress toward achieving intended outcomes. (5)

Intergovernmental Review

This program is subject to the requirements of Executive Order 12372 and the regulations in 34 CFR Part 79. The objective of the Executive order is to foster an intergovernmental partnership and a strengthened federalism by relying on processes developed by State and local government for coordination and review of proposed Federal financial assistance.

In accordance with the order, this document is intended to provide early notification of the Department's specific plans and actions for this program.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 7131

Dated: March 21, 2000.
(Catalog of Federal Domestic Assistance Number 84.184P Office of Elementary and Secondary Education—Safe and Drug-Free Schools and Communities National Programs—Federal Activities—The Challenge Newsletter)
Michael Cohen,
Assistant Secretary for Elementary and Secondary Education.

[FR Doc. 00-7300 Filed 3-23-00; 8:45 am]

BILLING CODE 4000-01-U